DEPARTMENT OF AGRICULTURE

Natural Resources Conservation Service

Little Wood River Irrigation District, Gravity Pressurized Irrigation Delivery System, Blaine County, Idaho

AGENCY: Natural Resources Conservation Service, USDA.

ACTION: Notice of availability of Final Environmental Impact Statement.

SUMMARY: Pursuant to section 012(2)(c) of the National Environmental Policy Act of 1969; the Council on Environmental Quality Regulations (40 CFR part 1500); and the Natural Resources Conservation Service Regulations (7 CFR part 650); the Natural Resources Conservation Service, U.S. Department of Agriculture, gives notice that a Final Environmental Impact Statement (EIS) has been prepared and published for a proposed federally assisted project by the Little Wood River Irrigation District, Blaine County, Idaho.

FOR FURTHER INFORMATION CONTACT: Copies of the Final EIS are available on the NRCS Web site at http://www.id.nrcs.usda.gov/ and Natural Resources Conservation Service, 9173 W. Barnes Dr., Suite C, Boise, Idaho 83709-1574. A limited number of copies of the EIS are available to fill single copy requests at the above address. Basic data developed during the environmental assessment are on file and may be reviewed by contacting Richard Sims, State Conservationist, Natural Resources Conservation Service, 9173 W. Barnes Dr., Suite C, Boise, Idaho 93709-1574; telephone: 208-378-5700.

SUPPLEMENTARY INFORMATION: This EIS addresses the effects of constructing a proposed gravity pressurized irrigation delivery system. The document analyzes the proposed action and two other alternatives, including no action. The proposed action includes the construction, operation and maintenance of two High-Density Polyethylene pipelines that provide irrigation water under gravity pressure to 8,800 irrigated acres and to 2,000 acres with booster pumps. The proposed action would cross the Little Wood River channel three times, several county roads, U.S. Highways 20 and 26, and adjacent to historic Little Wood River floodplains. This document describes Direct, Indirect, and Cumulative Effects of three Alternatives on ecological, aesthetic, historic, cultural, economic, social, and health conditions.

Dated: April 26, 2004.
Richard Sims,
State Conservationist.

[FR Doc. 04-10033 Filed 5-3-04; 8:45 am]

BILLING CODE 3410-16-P